DEPARTMENT OF THE INTERIOR

Fish and Wildlife Service

Recovery Plan for Nosa Luta or Rota Bridled White-eye (Zosterops rotensis)

AGENCY: Fish and Wildlife Service, Interior.

ACTION: Notice of document availability.

SUMMARY: We, the U.S. Fish and Wildlife Service, announce the availability of the Recovery Plan for the Nosa Luta or Rota Bridled White-eye (Zosterops rotensis). This species, which is found only on the island of Rota in the Commonwealth of the Northern Mariana Islands, was federally listed as endangered in 2004.

ADDRESSES: Copies of the recovery plan are available by request from the U.S. Fish and Wildlife Service, Pacific Islands Fish and Wildlife Office, 300 Ala Moana Boulevard, Room 3-122, Box 50088, Honolulu, Hawaii 96850 (phone: 808/792-9400). An electronic copy of the recovery plan is also available at http://endangered.fws.gov/recovery/index.html#plans. Printed copies of the recovery plan will be available for distribution in 4 to 6 weeks.

FOR FURTHER INFORMATION CONTACT: Fred Amidon, Fish and Wildlife Biologist, at the above Pacific Islands Fish and Wildlife Office address.

SUPPLEMENTARY INFORMATION:

Background

Recovery of endangered or threatened animals and plants is a primary goal of the Endangered Species Act (Act) (16 U.S.C. 1531 et seq.) and our endangered species program. Recovery means improvement of the status of listed species to the point at which listing is no longer required under the criteria in section 4(a)(1) of the Act. Recovery plans describe actions considered necessary for the conservation of the species, establish criteria for downlisting or delisting listed species, and estimate time and cost for implementing the measures needed for recovery.

The Act requires the development of recovery plans for endangered or threatened species unless such a plan would not promote the conservation of the species. Recovery plans help guide the recovery effort by describing actions considered necessary for the conservation of the species, and estimating time and cost for implementing the measures needed for recovery.

Section 4(f) of the Act requires that public notice and an opportunity for public review and comment be provided during recovery plan development. In fulfillment of this requirement, the Draft Recovery Plan for the Nosa Luta or Rota Bridled White-eye (Zosterops rotensis) was made available for public comment from September 19 to November 20, 2006 (71 FR 54838). Information provided during the public comment period was considered in our preparation of this recovery plan, and is summarized in an appendix to the plan.

The nosa Luta, or Rota bridled white-eye, is an endemic bird of the island of Rota in the Mariana archipelago and was federally listed as endangered in 2004 (69 FR 3022). In 1999, the population was estimated to be approximately 1,000 individuals and the species' core range consisted of approximately 628 acres (254 hectares) of forest above 490 feet (150 meters) elevation. Available information indicates that habitat loss and degradation and predation by introduced rats (Ratttus spp.) and black drongos (Dicrurus macrocercus) may be having some impact on the nosa Luta population. Due to its restricted range and small population size, the species is also highly susceptible to random catastrophic events like typhoons and the accidental introduction of new predators like the brown treesnake (Boiga irregularis), and avian diseases like west Nile virus. Therefore, recovery actions in this plan focus on protecting and enhancing forests in the species' range; determining the specific habitat requirements of the species to better manage areas for the species' conservation; assessing the impact of black drongos and rats on nosa Luta, and controlling these species as appropriate; preventing the introduction of new predators and avian diseases; and developing techniques to safeguard the species from extinction due to random catastrophic events. Due to the limited information available about the species and its threats, this recovery plan focuses on ten years of the recovery process. As additional information is learned about the species and its threats, recovery strategies and measures should be reassessed to determine the steps needed for downlisting and then delisting the species.

The primary objectives of this recovery plan are to stop further declines in the range and composition of the nosa Luta population, develop safeguards to prevent the species from going extinct, and reverse population declines to population levels estimated in 1982 (10,000 individuals). These objectives will be attained by conducting the following actions: (1) Reducing the decline of intact nosa Luta habitat to help reduce further population declines and range restrictions and increasing the amount of habitat available for sustaining an increasing nosa Luta population; (2) assessing the impact of black drongos and introduced rats on the nosa Luta population and controlling these species, as needed, to decrease their impacts on the nosa Luta; (3) preventing the brown treesnake and other threats, like West Nile virus, from becoming established on Rota to prevent further declines in the nosa Luta population; (4) evaluating the need and determining the requirements for establishing a second population of nosa Luta to prevent the species' extinction; and (5) establishing an outreach program to increase public support for conservation of the nosa Luta.

Authority: The authority for this action is section 4(f) of the Endangered Species Act, 16 U.S.C. 1533(f).

Dated: September 7, 2007.
Renne Lohoefener,
Regional Director, Region 1, U.S. Fish and Wildlife Service.

[FR Doc. E7-20628 Filed 10-18-07; 8:45 am]

BILLING CODE 4310-55-P